DEPARTMENT OF HEALTH AND HUMAN SERVICES

National Institutes of Health

Proposed Collection; 60-Day Comment Request; NIH Office of Intramural Training & Education—Application, Registration, and Alumni Systems Office of the Director

AGENCY: National Institutes of Health, HHS.

ACTION: Notice.

SUMMARY: In compliance with the requirement of the Paperwork Reduction Act of 1995 to provide an opportunity for public comment on proposed data collection projects, the National Institutes of Health (NIH) Office of Intramural Training & Education (OITE) will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Dr. Patricia Wagner, Program Analyst, Office of Intramural Training & Education (OITE), Office of Intramural Research (OIR), Office of the Director (OD), National Institutes of Health (NIH); 2 Center Drive: Building 2/Room 2E06; Bethesda, Maryland 20892 or call non-toll-free number 240-476-3619 or email your request, including your address to: wagnerpa@od.nih.gov. Formal requests for additional plans and instruments must be requested in writing.

SUPPLEMENTARY INFORMATION: Section 3506(c)(2)(A) of the Paperwork Reduction Act of 1995 requires: written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Proposed Collection Title: NIH Office of Intramural Training & Education—Application, Registration, and Alumni Systems, 0925-0299, exp., date, 05/31/2024, REVISION, Office of Intramural Training & Education (OITE), Office of Intramural Research (OIR), Office of the Director (OD), National Institutes of Health (NIH).

Need and Use of Information Collection: The OITE administers a variety of programs and initiatives to recruit pre-college through post-doctoral educational level individuals into the NIH Intramural Research Program to facilitate their development into future biomedical scientists. The proposed information collection is necessary to assess the eligibility and quality of potential awardees for traineeships in these programs.

The OITE collection system has been updated to use universal collection form templates with features that may be activated based on collection needs: number of recommendation letters, exceptional financial need statement, NIH campus location, etc. The collection system does allow for templates to have program specific labeling and directions to make sure the collection form is tailored to each training program, including but not limited to the following: Summer Internship Program, Postbaccalaureate Program, Graduate Partnerships Program (GPP), and Undergraduate Scholarship Program (UGSP). In addition to these changes, the collection system allows applicants to create a personal profile that allows for migrating similar information into multiple applications, thereby reducing applicant burden.

The applications for admission consideration solicit information including: personal information, ability to meet eligibility criteria, contact information, university-assigned student identification number, training program selection, scientific discipline interests, educational history, standardized examination scores, reference information, resume components, employment history, employment interests, dissertation research details, letters of recommendation, financial aid history, sensitive data, and travel information, as well as feedback questions about interviews and application submission experiences. Sensitive data collected on the applicants: race, gender, ethnicity, relatives at NIH, and recruitment method, are made available only to OITE staff members or in aggregate form to select NIH offices and are not used by the admission committees for admission consideration. In addition, information to monitor trainee placement after departure from NIH is periodically collected.

OMB approval is requested for 3 years. There are no costs to respondents other than their time. The total estimated annualized burden hours are 12,824.

Estimated Annualized Burden Hours
Type | Number of respondents | Number of responses annually per respondent | Average time/ response (hours) | Total annual burden hours
NIHAC—Applications | 10,000 | 1 | 45/60 | 7,500
NIHAC—Reference Letters | 25,000 | 1 | 10/60 | 4,167
NIHAC—UGSP Financial Need Form | 125 | 1 | 10/60 | 21
GPP—Interview Experience Survey | 90 | 1 | 10/60 | 15
UGSP—Interview Experience Survey | 30 | 1 | 10/60 | 5
UGSP—Contract | 25 | 1 | 10/60 | 4
UGSP—Evaluation of Scholar PayBack Period | 40 | 1 | 10/60 | 7
UGSP—Deferment Form | 50 | 1 | 10/60 | 8
GPP—Awards Certificate | 75 | 1 | 3/60 | 4
Trainee—Climate Survey | 500 | 1 | 20/60 | 167
Trainee—Onboarding Survey | 1,575 | 1 | 10/60 | 263
Trainee—Exit Survey | 1,575 | 1 | 10/60 | 263
MyOITE User Accounts (NIH-only) | 3,000 | 1 | 3/60 | 150
Event Registrations | 5,000 | 1 | 3/60 | 250
Totals | 47,085 | n/a | n/a | 12,824

Dated: October 24, 2023.
Tara A. Schwetz,
Acting Principal Deputy Director, National Institutes of Health.

[FR Doc. 2023-24036 Filed 10-31-23; 8:45 am]

BILLING CODE 4140-01-P